DEPARTMENT OF COMMERCE

National Oceanic and Atmospheric Administration

RIN 0648-XG282

Endangered Species; File No. 20561

AGENCY: National Marine Fisheries Service (NMFS), National Oceanic and Atmospheric Administration (NOAA), Commerce.

ACTION: Notice; receipt of application.

SUMMARY: Notice is hereby given that the Virginia Aquarium and Marine Science Center (Responsible Party: W. Mark Swingle), 717 General Booth Boulevard, Virginia Beach, VA 23451, has applied in due form for a permit to take green (Chelonia mydas), Kemp's ridley (Lepidochelys kempii), leatherback (Dermochelys coriacea), and loggerhead (Caretta caretta) sea turtles for purposes of scientific research.

DATES: Written, telefaxed, or email comments must be received on or before July 19, 2018.

ADDRESSES: The application and related documents are available for review by selecting “Records Open for Public Comment” from the “Features” box on the Applications and Permits for Protected Species (APPS) home page, https://apps.nmfs.noaa.gov, and then selecting File No. 20561 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Erin Markin or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The Virginia Aquarium and Marine Science Center proposes to continue sea turtle research in the Chesapeake Bay and mid-Atlantic Ocean to enhance conservation and management of sea turtles in estuarine and marine waters. Specific research objectives are to (1) study the behavior, distribution, health, and nutrition and compare the relative abundance of green, Kemp's ridley, and loggerhead sea turtles in the Chesapeake Bay, Long Island Sound, and U.S. mid-Atlantic waters; and (2) investigate the survival and behavior of green, loggerhead, and Kemp's ridley sea turtles affected by human activities in the study area. Annually, up to 30 green, 30 Kemp's ridley, and 30 loggerhead sea turtles would be captured (hand, dip, tangle, or pound nets, or capture under another authority), biologically sampled (blood, tissue), and tagged (passive integrated transponder (PIT), flipper, and acoustic or satellite transmitters (by epoxy or drilling the carapace)), measured, weighed, and photographed. One leatherback sea turtle may be opportunistically taken during research and would receive a temporary carapace mark, PIT tag, and flipper tags as well as be blood sampled, measured, and photographed. The permit would be valid for 10 years.

Dated: June 13, 2018.
Amy Sloan,
Deputy Chief, Permits and Conservation Division, Office of Protected Resources, National Marine Fisheries Service.

[FR Doc. 2018-13065 Filed 6-18-18; 8:45 am]

BILLING CODE 3510-22-P